DEPARTMENT OF HEALTH AND HUMAN SERVICES

[Document Identifier OS-0990-New]

Agency Information Collection Request: 60-Day Public Comment Request

AGENCY: Office of the Secretary.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Whistleblowers Study—OMB No. 0990—New—Office of Research Integrity (ORI).

Abstract: The Office of Research Integrity (ORI) proposes to do a study to determine what questions whistleblowers want answered from Research Integrity Officers (RIOs) when deciding to file an allegation of research misconduct.

To guide RIOs to be well-prepared to provide answers to the kinds of questions that complainants (whistleblowers) and potential complainants ask RIOs at different stages of the research misconduct allegation resolution process is critical to the smooth and effective conduct of that process. Complainants and potential complainants need to know what is in store for them during the process employed by the institution to resolve allegations of research misconduct. They need to know the steps involved in the process, the support available to them, and the safeguards afforded them against retaliation. This study will seek to obtain information from RIOs concerning the questions complainants have and when they arise, as well as what responses RIOs provide when they do.

Estimated Annualized Burden Table
Forms | Type of respondent | Number of respondents | Number of responses per respondent | Average burden hours per response | Total burden hours
Interview About Questions Asked By Complainants and Potential Complainants | Research Integrity Officers (RIOs) from Institutions with Research Misconduct Allegation or Investigation in Past 5 Years | 100 | 1 | 45/60 | 75
Total |  |  |  |  | 75

Seleda Perryman,
Office of the Secretary, Paperwork Reduction Act Reports Clearance Officer.

[FR Doc. 2010-6018 Filed 3-18-10; 8:45 am]

BILLING CODE 4150-31-P